DEPARTMENT OF THE INTERIOR

Bureau of Land Management

Privacy Act of 1974; as Amended; Creation of a New System of Records

AGENCY: Bureau of Land Management, Interior.

ACTION: Proposed addition of a new system of records.

SUMMARY: Pursuant to the provisions of the Privacy Act of 1974, as amended, (5 U.S.C. 552a), notice is hereby given that the Department of the Interior proposes to establish a new system of records, INTERIOR, BLM-40, to be maintained by the Bureau of Land Management (BLM).

The Department of the Interior is establishing a new system of records to manage the consolidated database of qualifications of Federal, State, local, contractor, volunteer, and special group wildland firefighters. This system will provide a single consolidated database for access to determine if personnel are qualified for specific positions on incident response teams. The typical incident for which the information would be used is on wildland fire support. However, other types of incidents do occur in which qualified personnel are needed and requested by other Federal Agencies, such as the Federal Emergency Management Agency, and by states for emergency situations such as hurricanes, floods, and human-caused disasters.

The creation and the maintenance of this system are authorized in accordance with provisions of 43 U.S.C. 1811e, 42 U.S.C. 1856a, 15 U.S.C. 2201, 5 U.S.C. 4118, 5 U.S.C. 3101, 16 U.S.C. 551C, 43 U.S.C. 1457, EO 10561, 620 DM 1.

Effective Dates: 5 U.S.C. 552a(e)(11) requires that the public be provided a 30 day period in which to comment on the agency's intended use of the information in the system of records. The Office of Management and Budget, in its Circular A-130, requires an additional 10 day period (for a total of 40 days) in which to make these comments. Any persons interested in commenting on this proposed system of records may do so by submitting comments in writing to Laura Bell, BLM Privacy Act Administrator, 1849 C Street, NW., 725 LS, Washington, DC 20240, or e-mail: lfbell@blm.gov. Comments received within 40 days of the publication in the Federal Register will be considered. The system will be effective as proposed at the end of the comment period unless comments are received that would require a contrary determination. The Department will publish a revised notice if changes are made upon review of comments received.

FOR FURTHER INFORMATION CONTACT: Michael Morgen, Business Steward, Bureau of Land Management, Incident Qualifications and Certification System, 3833 S. Development Avenue, Boise, Idaho 83705-5354.

SUPPLEMENTARY INFORMATION: This system will integrate information from systems currently maintained by agencies involved with incident support and emergency management (Department of Agriculture, Department of the Interior, and state and local agency systems) that maintain qualification data on individuals involved in firefighting. This system will provide a time-efficient method for the participating agencies and offices for determining qualifications and status of personnel to insure that qualified personnel are assigned to incidents in order to protect lives and property. This means that when a resource order is sent out requesting a Division Supervisor, that only persons with current qualifications that have met all of the prerequisite training will be identified and referred to the requesting agency.

Laura F. Bell,
FOIA/PA Program Analyst, Policy and Records Group, Bureau of Land Management.

Interior/BLM-40

SYSTEM NAME:

Incident Qualification and Certification System (IQCS)—Interior, BLM-40.

SYSTEM LOCATION:

(1) The consolidated central database is located at the U.S. Department of Agriculture (USDA) hosting facility, National Information Technology Center, 8930 Ward Parkway, Kansas City, Missouri 64114. Information from this system is accessed by cooperating agencies and field offices through Web secured Web links.

(2) Records from this system (paper and electronic) are managed by the bureau and office sites listed below, located at the National Interagency Fire Center, and involved in the Federal fire program:

(a) Bureau of Indian Affairs, 3833 S. Development Avenue, Boise, Idaho 83705-5354.

(b) U.S. Fish and Wildlife Service, 3833 S. Development Avenue, Boise, Idaho 83705-5354.

(c) Bureau of Land Management, 3833 S. Development Avenue, Boise, Idaho 83705-5354.

(d) National Park Service, 3833 S. Development Avenue, Boise, Idaho 83705-5354.

(e) U.S. Forest Service, 3833 S. Development Avenue, Boise, Idaho 83705-5354.

CATEGORIES OF INDIVIDUALS COVERED BY THE SYSTEM:

All federal, state, local, special interest group members, and contractor employees with wild land fire qualifications who voluntarily provide information to qualify for fire assignments.

CATEGORIES OF RECORDS IN THE SYSTEM:

Name of employee; date of birth, Social Security Number, office address and phone number, physical clearance status, pertinent education history, pertinent work or skills experience; listing of special qualifications; licenses and certificates held; and training completed. Firefighters with certain qualifications and past a certain age must have a medical clearance before they can take the fitness test. The IQCS only stores the status of the medical test and whether the firefighter has “cleared” or “not cleared” the medical test. Training scores may be entered as “pass” or “fail” or the letter grade for the class—this is an optional field.

AUTHORITY FOR MAINTENANCE OF THE SYSTEM:

5 U.S.C. 4118, 3101; 16 U.S.C. 551C; 43 U.S.C. 1457; EO 10561.

ROUTINE USES OF RECORDS MAINTAINED IN THE SYSTEM, INCLUDING CATEGORIES OF USERS AND THE PURPOSES OF SUCH USES:

(1) To support management officials for any agency responsible for managing an incident by insuring that only qualified personnel are assigned to wild and prescribed fires, natural disasters, and responses to terrorist acts, in positions that they are qualified to perform, thus reducing the potential for loss of property or life due to having unqualified personnel assigned to incident positions. The participating agencies are the USDA-Forest Service, four DOI bureaus; the Bureau of Land Management, National Park Service, Fish and Wildlife Service and Bureau of Indian Affairs (BIA), and The Nature Conservancy. Some Tribal information is included in accordance with BIA agreements. No states participate in the application.

(2) To support home unit (employing unit) coordinators updating the database with information about training course completion, task book completion, qualifications obtained, and positions that individuals are no longer qualified to perform. Each participating agency or bureau maintains their own portion of the information within IQCS.

The IQCS database contains data elements that require review under the Privacy Act (PA) disclosure requirements at 5 U.S.C. 552a (b) and the Freedom of Information Act (FOIA), 5 U.S.C. 552, before any information will be released. Rules of Behavior documentation is in accordance with BLM policy and is available from the specific project files. Applicable Privacy Act warning statements are placed on all information printouts of data from the system. Since each cooperating agency has access to the records of their personnel contained in the system, any requests for that information is the responsibility of the agency to which the data in question belongs.

DISCLOSURES OUTSIDE THE DEPARTMENT OF THE INTERIOR MAY BE MADE UNDER THE ROUTINE USES LISTED BELOW WITHOUT THE CONSENT OF THE INDIVIDUAL IF THE DISCLOSURE IS COMPATIBLE WITH THE PURPOSES FOR WHICH THE RECORD WAS COLLECTED:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee:

(b) When:

(i) One of the following is a party to the proceeding or has an interest in the proceeding:

(A) DOI or any component of DOI;

(B) Any other Federal agency appearing before the Office of hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(2) To a congressional office in response to a written inquiry that an individual covered by the system, or the heir or such individual if the covered individual is deceased, has made to the office.

(3) To any criminal, civil, or regulatory law enforcement authority (whether federal, state, territorial, local, tribal, or foreign) when a record, either alone or in conjunction with other information, indicates a violation or potential violation of law—criminal, civil, or regulatory in nature, and the disclosure is compatible with the purpose for which the records were compiled.

(4) To an official of another federal agency to provide information needed in the performance of official duties related to reconciling or reconstructing data files or to enable that agency to respond to an inquiry by the individual to whom the record pertains.

(5) To federal, state, territorial, local, tribal, or foreign agencies that have requested information relevant or necessary to the hiring, firing or retention of an employee or contractor, or the issuance of a security clearance, license, contract, grant, or other benefit, when the disclosure is compatible with the purpose for which the records were compiled.

(6) To representatives of the National Archives and Records Administration to conduct records management inspections under the authority of 44 U.S.C. 2904 and 2906.

(7) To state and local governments and tribal organizations to provide information needed in response to court orders and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of Treasury to recover debts owed to the United States.

(12) To the news media when the disclosure is compatible with the purpose for which the records were compiled.

Disclosure to consumer reporting agencies: Pursuant to 5 U.S.C. 552a(b)(12), records can be disclosed to consumer reporting agencies as they are defined in the Fair Credit Reporting Act.

POLICIES AND PRACTICES FOR STORING, RETRIEVING, ACCESSING, RETAINING, AND DISPOSING OF RECORDS IN THE SYSTEM:

STORAGE:

Paper records are stored in file folders, in locked file cabinets until data input is verified. Any paper records that are not input into the system will be maintained in secured files. Electronic records are stored on disk, system hard drive, tape or other appropriate media. Individual data is retained for a minimum of three years in an Active status—during which an individual employee is being deployed in the position(s) for which he or she is qualified. After three years of inactivity (no deployments), the individual's identifying information is moved into an Inactive repository. Upon two additional years of inactivity (for a total of five years), the individual's information is moved into a Data Archive.

RETRIEVABILITY:

Records can be retrieved by the name or a system-generated employee identifier for the individual, and only by the agency responsible for that individual.

SAFEGUARDS:

Access to records is limited to authorized personnel. Paper records are maintained in locked file cabinets. Electronic records are maintained with safeguards meeting minimum security requirements of 43 CFR 2.51. A security plan was developed to prevent unauthorized access to the system and in transmission of the data. A Privacy Impact Assessment was completed and signed in April 2004, and reviewed for validity in October 2005. This Assessment evaluated the privacy risks and ensured appropriate safeguards were in place.

RETENTION AND DISPOSAL:

BLM Manual 1220, Appendix 2, Schedule 1, Item 43, provides the disposition instructions for these records.

SYSTEM MANAGER(S) AND ADDRESSES:

(1) Fire IT Business Systems Unit Leader, National Interagency Fire Center, Bureau of Land Management, U.S. Department of the Interior, 3833 S. Development Avenue, Boise, ID 83705-5354.

(2) Bureau fire or personnel officers:

(a) Director of Fire and Aviation Management, Bureau of Indian Affairs, 3833 S. Development Avenue, Boise, ID 83705-5354.

(b) Personnel Officer, U.S. Geological Survey, National Center, 12201 Sunrise Valley Drive, Reston, VA 22092.

(c) Director of Fire Management, U.S. Fish and Wildlife Service, 3833 S. Development Avenue, Boise, ID 83705-5354.

(d) Labor Relations Officer, Bureau of Reclamation, P.O. Box 25001, Denver, CO 80225.

(e) Deputy Assistant Director, Fire and Aviation, Bureau of Land Management, 3833 S. Development Avenue, Boise, ID 83705-5354.

(f) Chief, Fire and Aviation Division, National Park Service, 3833 S. Development Avenue, Boise, ID 83705-5354.

(g) Personnel Officer, Minerals Management Service, Personnel Division, 1110 Herndon Parkway, Herndon, VA 22070.

(h) Personnel Officer, Office of Surface Mining, Division of Personnel, 1951 Constitution Avenue, NW., Washington, DC 20245.

(i) Director of Operations, U.S. Forest Service, 3833 S. Development Avenue, Boise, ID 83705-5354.

NOTIFICATION PROCEDURE:

An individual requesting notification of the existence of records on him or her, should address his/her request to the appropriate System Manager above. The request must be in writing, contain the requester's original signature, and comply with the content requirements of 43 CFR 2.60.

RECORD ACCESS PROCEDURES:

An individual requesting access to records maintained on him or her, should address his/her request to the appropriate System Manager above. The request must be in writing, contain the requester's original signature, and comply with the requirements of 43 CFR 2.63.

CONTESTING RECORD PROCEDURES:

An individual requesting amendment of a record maintained on him or her, should address his/her request to the appropriate System Manager above. The request must be in writing, contain the requester's original signature, and comply with the content requirements of 43 CFR 2.71.

RECORD SOURCE CATEGORIES:

Information collected and stored in this system is submitted by the individuals to whom the records pertain.

EXEMPTIONS CLAIMED FOR THE SYSTEM:

None.

[FR Doc. E8-2136 Filed 2-5-08; 8:45 am]

BILLING CODE 4310-84-P